ENVIRONMENTAL PROTECTION AGENCY

[EPA-R08-SFUND-2022-0229; FRL-9559-01-R8]

CERCLA Administrative Settlement Agreement for Removal Action and Payment of Response Costs by Bona Fide Prospective Purchaser, Vasquez Boulevard & Interstate I-70 Superfund Site, Denver, Colorado

AGENCY: Environmental Protection Agency (EPA).

ACTION: Notice of proposed agreement; request for public comment.

SUMMARY: Notice is hereby given by the U.S. Environmental Protection Agency (EPA), Region 8, of a proposed bona fide prospective purchaser settlement agreement embodied in an Order on Consent, with Vita Fox North L.P. This agreement provides for the performance of a removal action by Purchaser and the payment of certain response costs incurred by the United States at or in connection with the property located at 4400 North Fox Street, 4300 North Fox Street and 700 West 4th Avenue in Denver, Colorado, which is part of the Vasquez Boulevard & Interstate 70 Superfund Site. The project will enhance the protectiveness of the remedy during development and future use of the property.

DATES: Comments must be submitted on or before March 31, 2022.

ADDRESSES: The proposed agreement and additional background information relating to the agreement will be available upon request. To reduce the risk of COVID-19 transmission, for this action we do not plan to offer hard copy review of the docket. Comments and requests for a copy of the proposed agreement should be addressed to Julie Nicholson, Enforcement Specialist, Superfund and Emergency Management Division, Environmental Protection Agency-Region 8, Mail Code 8SEM-PAC, 1595 Wynkoop Street, Denver, Colorado 80202, (303) 312-6343, nicholson.julie@epa.gov and should reference the Vasquez Boulevard & Interstate I-70 Superfund Site.

You may also send comments, identified by Docket ID No. EPA-R08-SFUND-2022-0229 to http://www.regulations.gov. Follow the online instructions for submitting comments.

FOR FURTHER INFORMATION CONTACT: Mark Chalfant, Senior Assistant Regional Counsel, Office of Regional Counsel, Environmental Protection Agency, Region 8, Mail Code 8ORC-LEC, 1595 Wynkoop, Denver, Colorado 80202, telephone number: (303) 312-6177, email address: chalfant.mark@epa.gov.

SUPPLEMENTARY INFORMATION: In accordance with the requirements of the Comprehensive Environmental Response, Compensation, and Liability Act of 1980, as amended (“CERLCA”) notice is hereby given by the U.S. Environmental Protection Agency (EPA), Region 8, of a proposed bona fide prospective purchaser Administrative Settlement Agreement, embodied in an Administrative Settlement Agreement for Removal Action and Payment of Response Costs (“Settlement Agreement”) with the prospective purchaser, Vita Fox North L.P. (“Purchaser”). This proposed Settlement Agreement provides for the performance of a removal action by Purchaser and the payment of certain response costs incurred by the United States at or in connection with the property located at 4400 North Fox Street, 4300 North Fox Street and 700 West 4th Avenue in Denver, Colorado (the “Property”), which is part of the Vasquez Boulevard & Interstate 70 Superfund Site (“Site”). The proposed Settlement Agreement also provides a covenant not to sue or to take administrative action from the United States to Purchaser pursuant to sections 106 and 107(a) of CERCLA, 42 U.S.C. 9606 and 9607(a), for Existing Contamination, the Work, and the payment of response costs.

For thirty (30) days following the date of publication of this document, the Agency will receive written comments relating to the agreement. The Agency will consider all comments received and may modify or withdraw its consent to the agreement if comments received disclose facts or considerations that indicate that the agreement is inappropriate, improper, or inadequate.

Betsy Smidinger,
Division Director, Superfund and Emergency Management Division, Region 8.

[FR Doc. 2022-04223 Filed 2-28-22; 8:45 am]

BILLING CODE 6560-50-P